DEPARTMENT OF TRANSPORTATION

National Highway Traffic Safety Administration

[Docket Nos. NHTSA-2019-0095; NHTSA-2019-0134; Notice 2]

Specialty Tires of America, Inc., Grant of Petitions for Decision of Inconsequential Noncompliance

AGENCY: National Highway Traffic Safety Administration (NHTSA), Department of Transportation (DOT).

ACTION: Grant of petitions.

SUMMARY: Specialty Tires of America, Inc. (STA) has determined that certain STA light truck tires do not fully comply with Federal Motor Vehicle Safety Standard (FMVSS) No. 119, New Pneumatic Tires for Motor Vehicles with a GVWR of More than 4,536 kilograms (10,000 pounds) and Motorcycles, or FMVSS No. 139, New Pneumatic Radial Tires for Light Vehicles. STA filed noncompliance reports dated August 27, 2019, November 15, 2019, and November 18, 2019. STA also petitioned NHTSA on September 16, 2019, and December 13, 2019, and later amended the former on March 3, 2020, for a decision that the subject noncompliances are inconsequential as they relate to motor vehicle safety. This document announces the grant of STA's petitions.

FOR FURTHER INFORMATION CONTACT: Jayton Lindley, Office of Vehicle Safety Compliance, the National Highway Traffic Safety Administration (NHTSA), telephone (325)-655-0547, Jayton.Lindley@dot.gov.

SUPPLEMENTARY INFORMATION:

I. Overview: STA has determined that certain STA light truck tires do not fully comply with paragraph S6.5(f) of FMVSS No. 119, New Pneumatic Tires for Motor Vehicles with a GVWR of More than 4,536 kilograms (10,000 pounds) and Motorcycles (49 CFR 571.119) or paragraphs S5.5(e) and (f) of FMVSS No. 139, New Pneumatic Radial Tires for Light Vehicles (49 CFR 571.139). STA filed noncompliance reports dated August 27, 2019, November 15, 2019, and November 18, 2019, pursuant to 49 CFR part 573, Defect and Noncompliance Responsibility and Reports. STA also petitioned NHTSA on September 16, 2019, and December 13, 2019, and later amended the former on March 3, 2020, for an exemption from the notification and remedy requirements of 49 U.S.C. chapter 301 on the basis that this noncompliance is inconsequential as it relates to motor vehicle safety, pursuant to 49 U.S.C. 30118(d) and 30120(h) and 49 CFR part 556, Exemption for Inconsequential Defect or Noncompliance.

Notice of receipt of STA's petitions was published with a 30-day public comment period, on October 6, 2020, in the Federal Register (85 FR 63161). NHTSA received one comment from the general public. While the Agency takes great interest in the public's concerns and appreciates the commenter's feedback, the comment does not address the purpose of this particular petitions. To view the petitions and all supporting documents, log onto the Federal Docket Management System (FDMS) website at https://www.regulations.gov/. Then follow the online search instructions to locate docket numbers “NHTSA-2019-0095 and NHTSA-2019-0134.”

II. Tires Involved: Approximately 5,489 of the following STA light truck tires, manufactured between January 1, 2009, and October 27, 2019, and certified to FMVSS No. 119, are potentially involved:

• 8-17.5 LT STA Super Traxion

• 8-17.5 STA Super Transport

• 8-14.5LT G/14 STA Super Transport

• 8-14.5LT F 12 STA Super Transport

• 7.50-18 STA Super Traxion

• 7.50-17 STA Super Transport

• 10.00-20 STA Super Transport

Approximately 2,887 of the following STA light truck tires, manufactured between February 2, 2014, and September 1, 2019, and certified to FMVSS No. 139, are potentially involved:

• 37x12.50R20LT Interco SSR

• 37x12.50R17LT Interco SSR

• 35x12.50-16LT Interco Thornbird

• 33x13.50R17LT Interco Irok

III. Noncompliance: STA explains that in both cases, the noncompliance is that the sidewalls of the subject tires incorrectly state the ply material and number of plies and, therefore, do not meet the applicable requirement specified in either paragraph S6.5 of FMVSS No. 119 or paragraphs S5.5(e) and (f) of FMVSS No. 139. Specifically, the subject tires were incorrectly marked in the following ways:

• 8-17.5LT STA Super Traxion

Sidewall marked as Tread: 6 Ply Nylon, Sidewall: 4 Ply Nylon

Correct marking should be Tread: 4 Ply Nylon, Sidewall: 4 Ply Nylon

• 8-17.5 STA Super Transport

Sidewall marked as Tread: 6 Ply Nylon, Sidewall: 4 Ply Nylon

Correct marking should be Tread: 4 Ply Nylon, Sidewall: 4 Ply Nylon

• 8-14.5LT G/14STA Super Transport

Sidewall marked as Tread: 6 Ply Nylon, Sidewall: 6 Ply Nylon

Correct marking should be Tread: 8 Ply Nylon, Sidewall: 6 Ply Nylon

• 8-14.5LT F 12 STA Super Transport

Sidewall marked as Tread: 6 Ply Nylon, Sidewall: 6 Ply Nylon

Correct marking should be Tread: 8 Ply Nylon, Sidewall: 6 Ply Nylon

• 7.50-18 STA Super Traxion

Sidewall marked as Tread: 4 Ply Nylon, Sidewall: 4 Ply Nylon

Correct marking should be Tread: 6 Ply Nylon, Sidewall: 4 Ply Nylon

• 7.50-17 STA Super Transport

Sidewall marked as Tread: 4 Ply Nylon, Sidewall: 4 Ply Nylon

Correct marking should be Tread: 6 Ply Nylon, Sidewall: 6 Ply Nylon

• 10.00-20 STA Super Transport

Sidewall marked as Tread: 10 Ply Nylon, Sidewall: 10 Ply Nylon

Correct marking should be Tread: 8 Ply Nylon, Sidewall: 6 Ply Nylon

• 37x12.50R20LT Interco SSR

Sidewall marked as Tread: 3 Poly + 2 Steel + 1 Nylon, Sidewall: 3 Poly

Correct marking should be Tread: 2 Poly + 2 Steel + 2 Nylon, Sidewall: 2 Poly

• 37x12.50R17LT Interco SSR

Sidewall marked as Tread: 3 Poly + 2 Steel + 1 Nylon, Sidewall: 3 Poly

Correct marking should be Tread: 2 Poly + 2 Steel + 2 Nylon, Sidewall: 2 Poly

• 35x12.50-16LT Interco Thornbird

Sidewall marked as Tread: 4 Ply Nylon, Sidewall: 4 Ply Nylon

Correct marking should be Tread: 4 Poly + 2 Nylon, Sidewall: 4 Ply Poly

• 33x13.50R17LT Interco Irok

Sidewall marked as Tread: 3 Poly + 2 Steel + 1 Nylon, Sidewall: 3 Poly

Correct marking should be Tread: 2 Poly + 2 Steel + 1 Nylon, Sidewall: 2 Poly

IV. Rule Requirements: Paragraph S6.5(f) of FMVSS No. 119 and paragraphs S5.5(e) and (f) of FMVSS No. 139 include the requirements relevant to these petitions. Paragraph S6.5(f) of FMVSS No. 119 requires that each tire shall be marked on each sidewall with the actual number of plies and the composition of the ply cord material in the sidewall and, if different, in the tread area. Paragraphs 5.5(e) and (f) of FMVSS No. 139 require that each tire must be marked on one sidewall with the generic name of each cord material used in the plies (both sidewall and tread area) of the tire, the actual number of plies in the sidewall, and the actual number of plies in the tread area, if different.

V. Summary of STA's Petitions: The following views and arguments presented in this section, “V. Summary of STA's Petitions,” are the views and arguments provided by STA. They do not reflect the views of the Agency.

STA described the subject noncompliances and stated that the noncompliances are inconsequential as they relate to motor vehicle safety. In support of its petitions, STA offers the following reasoning:

1. The subject tires were manufactured as designed and meet or exceed all other marking and performance requirements of FMVSS No. 119 or 139, as applicable.

2. The noncompliance is not a safety concern, having no effect on operation of the tire and no impact on the retreading, repairing, or recycling industries.

3. All the tires in inventory and the mold information are being corrected and all future production and sales by STA of these tires will have the correct information on both sidewalls.

4. STA stated that they are not aware of any warranty claims, adjustments, field reports, customer complaints, legal claims, or any incidents, accidents, or injuries related to the subject condition.

5. STA says that NHTSA has granted a number of similar petitions relating to incorrectly identifying the actual number of plies in the tread area. STA went on to cite the following petitions in which the Agency has previously granted:

a. Continental Tire the Americas, LLC, Grant of Petition for Decision of Inconsequential noncompliance, 83 FR 36668 (July 30, 2018).

b. Sumitomo Rubber Industries, Ltd., Grant of Petition for Decision of Inconsequential Noncompliance, 83 FR 13002 (March 26, 2018).

c. Bridgestone Americas Tire Operations, LLC, Grant of Petition for Decision of Inconsequential Noncompliance, 78 FR 47049 (August 2, 2013).

d. Goodyear Tire & Rubber Co. Grant of Petition for Decision of Inconsequential Noncompliance, 74 FR 10804 (March 12, 2009).

e. Nitto Tire U.S.A., Inc., Grant of Petition for Decision of Inconsequential Noncompliance, 81 FR 17764 (March 30, 2016).

f. Hankook Tire America Corp., Grant of Petition for Decision of Inconsequential Noncompliance, 79 FR 30688 (May 28, 2014).

STA concluded by again contending that the subject noncompliances are inconsequential as they relate to motor vehicle safety, and that its petitions to be exempted from providing notification of the noncompliances, as required by 49 U.S.C. 30118, and a remedy for the noncompliance, as required by 49 U.S.C. 30120, be granted.

STA's complete petitions and all supporting documents are available by logging onto the Federal Docket Management System (FDMS) website at https://www.regulations.gov and by following the online search instructions to locate the docket number as listed in the title of this notice.

VI. NHTSA's Analysis: The Agency agrees with STA that the noncompliance is inconsequential to motor vehicle safety. The Agency believes that one measure of inconsequentiality to motor vehicle safety is that there is no effect of the noncompliance on the operational safety of vehicles on which these tires are mounted. Another measure of inconsequentiality which is relevant to these petitions is the safety of people working in the tire retread, repair and recycling industries.

Although tire construction affects the strength and durability of tires, neither the Agency nor the tire industry provides information establishing a relationship between tire strength and durability to the number of plies and types of ply cord material in the tread sidewall. Therefore, tire dealers and customers should consider the tire construction information along with other information such as the load capacity, maximum inflation pressure, tread wear, temperature, and traction ratings, to assess performance capabilities of various tires. In the Agency's judgement, the incorrect labeling of the tire construction information will have an inconsequential effect on motor vehicle safety because most consumers do not base tire purchases or vehicle operation parameters on the number of plies in a tire.

The Agency also believes the noncompliance will have no measurable effect on the safety of the tire retread, repair, and recycling industries. The use of steel in the sidewall and tread is the primary safety concern of these industries. In this case, because the sidewall markings indicate correctly that the steel plies exist, and their number, the industry will be reasonably notified of this potential safety concern.

VII. NHTSA's Decision: In consideration of the foregoing, NHTSA finds that STA has met its burden of persuasion that the FMVSS No. 139 and FMVSS No. 119 noncompliances are inconsequential as they relate to motor vehicle safety. Accordingly, STA's petitions are hereby granted, and STA is exempted from the obligation of providing notification of, and a remedy for, the noncompliance under 49 U.S.C. 30118 and 30120.

(Authority: 49 U.S.C. 30118, 30120: delegations of authority at 49 CFR 1.95 and 501.8.)

Otto G. Matheke III,
Director, Office of Vehicle Safety Compliance.

[FR Doc. 2022-21997 Filed 10-7-22; 8:45 am]

BILLING CODE 4910-59-P